ENVIRONMENTAL PROTECTION AGENCY

40 CFR Part 180

[EPA-HQ-OPP-2023-0069; FRL-10579-01-OCSPP]

Receipt of a Pesticide Petition Filed for Residues of Pesticide Chemicals in or on Various Commodities January 2023

AGENCY: Environmental Protection Agency (EPA).

ACTION: Notification of filing of petition and request for comment.

SUMMARY: This document announces the Agency's receipt of an initial filing of a pesticide petition requesting the establishment or modification of regulations for residues of pesticide chemicals in or on various commodities.

DATES: Comments must be received on or before March 27, 2023.

ADDRESSES: Submit your comments, identified by docket identification (ID) number EPA-HQ-OPP-2023-0069, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Biopesticides and Pollution Prevention Division (BPPD) (7511M), main telephone number: (202) 566-1400, email address: BPPDFRNotices@epa.gov; or Dan Rosenblatt, Registration Division (RD) (7505T), main telephone number: (202) 566-2875, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at https://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Notice of Filing—Amend Tolerances for Non-Inerts

1. PP 2E9030. EPA-HQ-OPP-2022-0887. Interregional Research Project Number 4 (IR-4), IR-4 Project Headquarters, North Carolina State University, 1730 Varsity Drive, Venture IV, Suite 210, Raleigh, NC 27606, requests to amend 40 CFR 180.677 by removing established tolerances for residues of the insecticide, cyflumetofen: (2-methoxyethyl α-cyano-α-[4-(1,1-dimethylethyl)phenyl]-β-oxo-2-(trifluoromethyl)benzenepropanoate), including its metabolites and degradates, in or on the following raw agricultural commodities: Cucumber at 0.3 parts per million (ppm); grape at 0.60 ppm; and strawberry at 0.6 ppm. Contact: RD.

2. PP 2E9032. EPA-HQ-OPP-2022-0958. FMC Corporation, 2929 Walnut Street, Philadelphia, PA 19104, requests to amend the tolerance in 40 CFR 180.672 for residues of the cyantraniliprole, in or on olive at 3.0 ppm. The Adequate analytical methodology, high‐pressure liquid chromatography with ESI‐MS/MS detection, is available for enforcement purposes is used to measure and evaluate the chemical, cyantraniliprole. Contact: RD.

B. New Tolerances for Non-Inerts

1. PP 2E9030. EPA-HQ-OPP-2022-0887. IR-4, IR-4 Project Headquarters, North Carolina State University, 1730 Varsity Drive, Venture IV, Suite 210, Raleigh, NC 27606, requests to establish tolerances in 40 CFR 180.677 for residues of the insecticide, cyflumetofen: (2-methoxyethyl α-cyano-α-[4-(1,1-dimethylethyl)phenyl]-β-oxo-2-(trifluoromethyl)benzenepropanoate), including its metabolites and degradates, in or on the following raw agricultural commodities: Berry, low growing, subgroup 13-07G at 0.6 ppm; fruit, small, vine climbing, except fuzzy kiwifruit, subgroup 13-07F at 0.6 ppm; and vegetable, cucurbit, group 9 at 2 ppm. Analytical method LC-MS/MS was used to measure and evaluate the chemical. Contact: RD.

2. PP 2E9032. EPA-HQ-OPP-2022-0958. FMC Corporation, 2929 Walnut Street, Philadelphia, PA 19104, requests to establish a tolerance in 40 CFR part 180 for residues of the insecticide, cyantraniliprole, in or on grape, table at 2.0 ppm; avocado at 0.4 ppm; and mango at 0.7 ppm. The adequate analytical methodology, high‐pressure liquid chromatography with ESI-MS/MS detection, is available for enforcement purposes is used to measure and evaluate the chemical, cyantraniliprole. Contact: RD.

C. Amended Tolerance Exemptions for Non-Inerts (Except PIPS)

1. PP 1E8975. EPA-HQ-OPP-2022-0797. IR-4, North Carolina State University, 1730 Varsity Drive, Suite 210, Venture IV, Raleigh, NC 27606, on behalf of Texas Corn Producers Board, 4205 N. Interstate 27, Lubbock, Texas 79403, requests to amend an exemption from the requirement of a tolerance in 40 CFR part 180.1338 for residues of the fungicides Aspergillus flavus strains TC16F, TC35C, TC38B, and TC46G in or on all food and feed commodities of field corn, popcorn, and sweet corn. The petitioner believes no analytical method is needed because it is expected that, when used as proposed, Aspergillus flavus strains TC16F, TC35C, TC38B, and TC46G will not result in residues that are of toxicological concern. Contact: BPPD.

D. New Tolerance Exemptions for Inerts (Except PIPS)

1. PP IN-11713. EPA-HQ-OPP-2023-0039. Delta Analytical Corporation, 12510 Prosperity Drive Suite 160, Silver Spring, Maryland 20904, on behalf of Borchers Americas, Inc., 811 Sharon Drive, Westlake, OH 44145 requests to establish an exemption from the requirement of a tolerance for residues of oxirane, 2-methyl-, polymer with oxirane, ether with D-glucitol (6:1), (CAS Reg. No. 56449-05-9), with a minimum average molecular weight (in amu) of 10,145 when used as a pesticide inert ingredient in pesticide formulations under 40 CFR 180.960. The petitioner believes no analytical method is needed because it is not required for an exemption from the requirement of a tolerance. Contact: RD.

2. PP IN-11716. EPA-HQ-OPP-2023-0003. Spring Regulatory Sciences (6620 Cypresswood Dr., Suite 250 S pring, TX 77379) on behalf of Evonik Corporation (P.O. Box 34628, Richmond, Virginia 23234), requests to establish an exemption from the requirement of a tolerance for residues of oxirane, methyl-, polymer with oxirane, monobutyl ether (CAS Reg. No. 9038-95-3) minimum number average molecular weight 800 g/mol and oxirane, 2-methyl-, polymer with oxirane, monomethyl ether (CAS Reg. No. 9063-06-3) minimum number average molecular weight 800 g/mol when used as a pesticide inert ingredient (adjuvant, carrier, diluent, or solvent) in pesticide formulations applied pre- and post-harvest under 40 CFR 180.910 and in/on animals under 180.930. The petitioner believes no analytical method is needed because it is not required for an exemption from the requirement of a tolerance. Contact: RD.

E. New Tolerance Exemptions for PIPS

1. PP 2F29001. EPA-HQ-OPP-2022-0988. Pioneer Hi-Bred International, Inc., 8325 NW 62nd Avenue Johnston, IA 50131, USA, requests to establish an exemption from the requirement of a tolerance in 40 CFR part 174 for residues of the plant-incorporated protectant (PIP) Bacillus thuringiensis Cry1B.34 protein in or on maize. The analytical method a validated ELISA was used to determine the concentration of Cry1Da2 protein in maize tissues, including grain and forage is available to EPA for the detection and measurement of the pesticide residues. Contact: BPPD.

2. PP 2F9003. EPA-HQ-OPP-2023-0022. Pioneer Hi-Bred International, Inc., 7100 NW 62nd Avenue, P.O. Box 1000, Johnston, Iowa 50131, requests to establish an exemption from the requirement of a tolerance in 40 CFR part 174 for residues of the plant-incorporated protectant (PIP) Bacillus thuringiensis Cry1Da2 protein in or on maize. The analytical method a validated ELISA was used to determine the concentration of Cry1Da2 protein in maize tissues, including grain and forage is available to EPA for the detection and measurement of the pesticide residues. Contact: BPPD.

Authority: 21 U.S.C. 346a.

Dated: February 13, 2023.
Delores Barber,
Director, Information Technology and Resources Management Division, Office of Program Support.

[FR Doc. 2023-03676 Filed 2-22-23; 8:45 am]

BILLING CODE 6560-50-P